ENVIRONMENTAL PROTECTION AGENCY

[OPPT-2005-0060; FRL-7747-8]

National Advisory Committee for Acute Exposure Guideline Levels for Hazardous Substances; Notice of Charter Renewal

AGENCY: Environmental Protection Agency (EPA).

ACTION: Notice.

SUMMARY: The Charter for the Environmental Protection Agency's National Advisory Committee for Acute Exposure Guideline Levels for Hazardous Substances (NAC/AEGL) has been renewed for an additional 2-year period, as a necessary committee which is in the public interest, in accordance with the provisions of the Federal Advisory Committee Act (FACA), 5 U.S.C. App. 2 sec. 9(c). The purpose of NAC/AEGL is to provide advice and recommendations to the Administrator of EPA on issues associated with development of acute exposure guideline levels for hazardous substances for use in chemical emergency programs. It has been determined that NAC/AEGL is in the public interest in connection with the performance of duties imposed on the Agency by law.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Paul Tobin, Risk Assessment Division (7403M), Office of Pollution Prevention and Toxics, Environmental Protection Agency, 1200 Pennsylvania Ave., NW., Washington, DC 20460-0001; telephone number: (202) 564-8557; e-mail address: tobin.paul@epa.gov.

SUPPLEMENTARY INFORMATION:

I. General Information

A. Does this Action Apply to Me?

This action is directed to the public in general. This action may be of particular interest to anyone who may be affected if AEGL values are adopted by government agencies for emergency planning, prevention, or response programs, such as EPA's Risk Management Program under the Clean Air Act and Amendments Section 112r. It is possible that other Federal agencies besides EPA, as well as State agencies and private organizations, may adopt the AEGL values for their programs. As such, the Agency has not attempted to describe all the specific entities that may be affected by this action. If you have any questions regarding the applicability of this action to a particular entity, consult the DFO listed under FOR FURTHER INFORMATION CONTACT.

B. How Can I Get Copies of this Document and Other Related Information?

1. Docket. EPA has established an official public docket for this action under docket identification (ID) number OPPT-2005-0060. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in the EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. What Action is the Agency Taking?

EPA has renewed the charter for the NAC/AEGL Committee for an additional 2-year period. The NAC/AEGL Committee provides advice and recommendations to the Administrator of EPA on issues associated with the development of acute exposure guideline levels for hazardous substances. Acute exposure guideline levels for hazardous substances are used by other Federal agencies, State and local governments, and private organizations for exposure limits in chemical emergency programs. It has been determined that the NAC/AEGL Committee is in the public's interest and is related to the performance of duties imposed on the Agency by law.

B. What is the Agency's Authority for Taking this Action?

The charter for the NAC/AEGL Committee is in accordance with the provisions of FACA, 5 U.S.C. App., section 9(c).

List of Subjects

Environmental protection, Acute exposure guideline levels, Hazardous substances, Public health, Safety, Worker protection.

Dated: February 6, 2006.
Susan B. Hazen,
Assistant Administrator, Office of Prevention, Pesticides and Toxic Substances.

[FR Doc. 06-1353 Filed 2-14-06; 8:45 am]

BILLING CODE 6560-50-S